DEPARTMENT OF DEFENSE

Department of the Air Force

Privacy Act of 1974; System of Records

AGENCY: Department of the Air Force, DOD.

ACTION: Notice to Add a System of Records.

SUMMARY: The Department of the Air Force proposes to add a system of records to its inventory of record systems subject to the Privacy Act of 1974 (5 U.S.C. 552a), as amended.

DATES: This action will be effective without further notice on November 1, 2000 unless comments are received that would result in a contrary determination.

ADDRESSES: Send comments to the Air Force Access Programs Manager, Headquarters, Air Force Communications and Information Center/ITC, 1250 Air Force Pentagon, Washington, DC 20330-1250.

FOR FURTHER INFORMATION CONTACT: Mrs. Anne Rollins at (703) 588-6187.

SUPPLEMENTARY INFORMATION: The Department of the Air Force notices for systems of records subject to the Privacy Act of 1974 (5 U.S.C. 552a), as amended, have been published in the Federal Register and are available from the address above.

The proposed system report, as required by 5 U.S.C. 522a(r) of the Privacy Act of 1974, as amended, was submitted on September 19, 2000, to the House Committee on Government Reform, the Senate Committee on Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: September 26, 2000.
L.M. Bynum,
Alternate OSD Federal Register Liaison Officer, Department of Defense.

F033 AFCA B

SYSTEM NAME:

Air Force Computer Based Training (CBT) System.

SYSTEM LOCATION:

Defense Information Systems Agency, Regional Support Activity (DISA, RSA-DE/WE 65D), 6760 E. Irvington Place, Denver, CO 80279-8000.

CATEGORIES OF INDIVIDUALS COVERED BY THE SYSTEM:

Air Force active duty, Air National Guard, Air Force Reserve, civilians and contractors.

CATEGORIES OF RECORDS IN THE SYSTEM:

Air Force communications and information Computer Based Training (CBT) system course completion, testing results and registration data.

AUTHORITY FOR MAINTENANCE OF THE SYSTEM:

10 U.S.C. 8013, Secretary of the Air Force and Air Force Instruction 33-115 V2, Licensing Network Users and Certifying Network Professionals.

PURPOSE(S):

Used as a record of Air Force communications and information Computer Based Training system training completion.

ROUTINE USES OF RECORDS MAINTAINED IN THE SYSTEM, INCLUDING CATEGORIES OF USERS AND THE PURPOSES OF SUCH USES:

In addition to those disclosures generally permitted under 5 U.S.C. 552a(b) of the Privacy Act, these records or information contained therein may specifically be disclosed outside the DoD as a routine use pursuant to 5 U.S.C. 552a(b)(3) as follows:

The DoD ‘Blanket Routine Uses’ published at the beginning of the Air Force's compilation of record system notices apply to this system.

POLICIES AND PRACTICES FOR STORING, RETRIEVING, ACCESSING, RETAINING, AND DISPOSING OF RECORDS IN THE SYSTEM:

STORAGE:

Maintained on computer and computer output products.

RETRIEVABILITY:

Retrieved by name, student ID, course ID, MAJCOM, and base.

SAFEGUARDS:

Records are accessed by a registered student using student ID and password or by person(s) responsible for servicing the record system in performance of their official duties.

RETENTION AND DISPOSAL:

Disposition pending (until NARA disposition is approved, treat as permanent).

SYSTEM MANAGER(S) AND ADDRESS:

Chief, Training Management Branch, Communications and Information Management Training Branch, Air Force Communications Agency (HQ AFCA/XPFT), 203 W. Losey Street, Scott Air Force Base, IL 62225-5222.

NOTIFICATION PROCEDURE:

Individuals seeking to determine whether information about themselves is contained in this system should access the Air Force Computer Based Training System central repository at https://afcbt.den.disa.mil/usafcbt. The Air Force Computer Based Training System only maintains records on registered students.

RECORD ACCESS PROCEDURES:

Individuals seeking to access records about themselves contained in this record system may review their records by accessing the Air Force Computer Based Training System central repository at https://afcbt.den.disa.mil/usafcbt. The Air Force Computer Based Training System only maintains records on registered students.

CONTESTING RECORD PROCEDURES:

The Air Force rules for accessing records, and for contesting contents and appealing initial agency determinations are published in Air Force Instruction 33-332; 32 CFR part 806b; or may be obtained from the system manager.

RECORD SOURCE CATEGORIES:

Information obtained from registered students.

EXEMPTIONS CLAIMED FOR THE SYSTEM:

None.

[FR Doc. 00-25103 Filed 9-29-00; 8:45 am]

BILLING CODE 5001-10-M